FEDERAL COMMUNICATIONS COMMISSION

[FR ID 196072]

Radio Broadcasting Services; AM or FM Proposals To Change the Community of License

AGENCY: Federal Communications Commission.

ACTION: Notice.

DATES: The agency must receive comments on or before March 22, 2024.

ADDRESSES: Federal Communications Commission, 45 L Street NE, Washington, DC 20554.

FOR FURTHER INFORMATION CONTACT: Rolanda F. Smith, 202-418-2054, Rolanda-Faye.Smith@fcc.gov.

SUPPLEMENTARY INFORMATION: The following applicants filed AM or FM proposals to change the community of license: EAST TEXAS COMMUNITY BROADCASTING, KKJX(FM), FAC. ID NO. 767072, FROM: JACKSONVILLE, TX, TO: MAYDELLE, TX, FILE NO. 0000224170; M. KENT FRANDSEN, KUNY(FM), FAC. ID NO. 762385, FROM: PARAGONAH, UT, TO: ENOCH, UT, FILE NO. 0000233738; CSN INTERNATIONAL, INC., KYML(FM), FAC. ID NO. 767224, FROM: MOUNT LAGUNA, CA, TO: SAN DIEGO COUNTRY ESTATES, CA, FILE NO. 0000232741; WESTERN NORTH CAROLINA PUBLIC RADIO, WCQS(FM), FAC. ID NO. 71923, FROM: ASHEVILLE, NC, TO: MARS HILL, NC, FILE NO. 0000232164; and WESTERN NORTH CAROLINA PUBLIC RADIO, INC., WYQS(FM), FAC. ID NO. 40436, FROM: MARS HILL, NC, TO: ASHEVILLE, NC, FILE NO. 0000232165. The full text of these applications is available electronically via Licensing and Management System (LMS), https://apps2int.fcc.gov/dataentry/public/tv/publicAppSearch.html.

Federal Communications Commission.
Nazifa Sawez,
Assistant Chief, Audio Division, Media Bureau.

[FR Doc. 2024-01123 Filed 1-19-24; 8:45 am]

BILLING CODE 6712-01-P